DEPARTMENT OF AGRICULTURE

Forest Service

Chimney Rock National Monument Management Plan; San Juan National Forest; Colorado

AGENCY: Forest Service, USDA.

ACTION: Notice of intent to prepare an environmental impact statement.

SUMMARY: The Forest Service intends to prepare an environmental impact statement (EIS) to establish management direction for the land and resources within Chimney Rock National Monument, designated by Presidential Proclamation on September 21, 2012. The Forest Service, as the responsible agency, proposes to amend the 2013 San Juan National Forest Land and Resource Management Plan to provide for the protection of the objects of interest identified in the Proclamation. These objects include significant archaeology, archaeoastronomy, visual and landscape characteristics, and geological and biological features.

DATES: Comments concerning the scope of the analysis must be received by January 16, 2014.

ADDRESSES: Send written comments to Kevin Khung, Pagosa District Ranger, PO Box 310, Pagosa Springs, CO 81147]. Comments may also be sent via email to [comments-rocky-mountain-san-juan-pagosa@fs.fed.us], or via facsimile to [970-264-1538].

FOR FURTHER INFORMATION CONTACT: Sara Brinton, Interdisciplinary Team Leader at 970-264-1532, or sbrinton@fs.fed.us.

Individuals who use telecommunication devices for the deaf (TDD) may call the Federal Information Relay Service (FIRS) at 1-800-877-8339 between 8 a.m. and 8 p.m., Eastern Time, Monday through Friday.

SUPPLEMENTARY INFORMATION:

Estimated Dates

The draft environmental impact statement is expected in April, 2014 and the final environmental impact statement is expected in September, 2014.

Purpose and Need for Action

The Presidential Proclamation establishing Chimney Rock National Monument (the Monument) requires preparation of a management plan. The purpose and need of developing the management plan is to ensure that the lands and resources within the Monument are managed in accordance with the intent of the Presidential Proclamation that established the Monument. As stated in the proclamation, the plan will provide for protection and interpretation of the scientific and historic objects identified, including nationally significant archaeology, archaeoastronomy, visual and landscape characteristics, and geological and biological features, as well as objects of deep cultural and educational value. The plan will also provide for continued public access to those objects consistent with their protection, and protect and preserve access by tribal members for traditional cultural, spiritual, and food- and medicine-gathering purposes, consistent with the purposes of the monument, to the maximum extent permitted by law in order to protect the objects of interest. The management plan will amend the 2013 San Juan National Forest Land and Resource Management Plan.

The management plan will be prepared pursuant to the requirements of the National Forest Management Act of 1976 (NFMA) and the 1982 U.S. Forest Service (USFS) planning regulations (36 CFR part 219) as allowed by the transition provision of the 2012 forest planning regulations. The 1982 planning regulations are available at http://www.fs.fed.us/emc/nfma/includes/nfmareg.html.

Proposed Action

The San Juan National Forest proposes to develop a management plan that will: (1) Identify the goals (desired conditions) for the Monument; (2) identify suitable uses for areas within the Monument; (3) establish the Strategies, Objectives, and Standards and Guidelines for management of the Monument; (4) Evaluate and recommend Special Area designations; (5) Identify the Monitoring and Evaluation requirements for the Monument; and (6) Establish a transportation plan for the Monument.

Responsible Official

San Juan Forest Supervisor.

Scoping Process

This notice of intent initiates the scoping process, which guides the development of the environmental impact statement. Information regarding this project is available at the Pagosa Ranger District office in Pagosa Springs, Colorado, and on the San Juan National Forest Web site at www.fs.usda.gov/sanjuan. Public open houses may be scheduled at a later date to provide further information as needed. The dates of any public open houses will be announced by press releases in local papers, direct mailings, emails, and will be posted on the San Juan National Forest Web site.

It is important that reviewers provide their comments at such times and in such manner that they are useful to the agency's preparation of the environmental impact statement. Therefore, comments should be provided prior to the close of the comment period and should clearly articulate the reviewer's concerns.

Comments received in response to this solicitation, including names and addresses of those who comment, will be part of the public record for this proposed action. Comments submitted anonymously will be accepted and considered; however, anonymous comments will not provide the Agency with the ability to provide the respondent with subsequent environmental documents.

Dated: November 20, 2013.
Mark W. Stiles,
Forest Supervisor.

[FR Doc. 2013-28774 Filed 11-29-13; 8:45 am]

BILLING CODE 3410-11-P